DEPARTMENT OF COMMERCE

Notice of availability of a draft regional restoration plan

AGENCY: National Oceanic and Atmospheric Administration (NOAA), Commerce.

ACTION: Notice of Availability of a Draft Regional Restoration Plan: Region 2, for the Louisiana Regional Restoration Planning Program.

SUMMARY: Notice is hereby given that a document entitled, “Draft Louisiana Regional Restoration Plan: Region 2” is available for public review and comment. This document has been prepared by the state and federal natural resource trustee agencies (National Oceanic and Atmospheric Administration (NOAA); U.S. Department of the Interior (DOI); Louisiana Oil Spill Coordinator's Office (LOSCO); and Louisiana Departments of Environmental Quality (LDEQ); Natural Resources (LDNR); and Wildlife and Fisheries (LDWF)) to address natural resource injuries resulting from discharges of oil in Region 2 of the State of Louisiana.

The draft Region 2 Restoration Plan (RRP-2) is the first of nine regional plans being prepared under the statewide Louisiana Regional Restoration Planning Program (RRP Program) developed by NOAA, DOI and the State of Louisiana. The purposes of the RRP Program include expediting restoration of natural resources injured by oil spills and reducing the cost of natural resource damage assessments (NRDA)—the process by which trustee agencies assess and restore resources injured by oil spills.

The trustees are seeking public comment on the draft RRP-2. Public comments on the Plan will be accepted during the thirty (30) day public comment. Opportunities for public comment on the statewide program are provided through public review and comment on documents contained in the Administrative Record maintained at the locations listed at the end of this Notice.

DATES: Comments on the “Draft Louisiana Regional Restoration Plan: Region 2” must be submitted in writing by October 23, 2003.

ADDRESSES: Requests for copies of the “Draft Louisiana Regional Restoration Plan: Region 2”, as well as written comments, should be sent to William Conner, Chief, NOAA/Damage Assessment Center, 1305 East-West Highway, SSMC #4, 10th floor, Silver Spring, MD 20910; fax number 301/713-4389; e-mail address: William.Conner@noaa.gov.

FOR FURTHER INFORMATION CONTACT: For further information, contact William Conner at 301/713-3038 ext. 190, or at William.Conner@noaa.gov.

SUPPLEMENTARY INFORMATION: Louisiana's economy is based, in part, on the state's vast natural resources. Both renewable (hunting, fishing, forest products) and nonrenewable (cultural, oil, natural gas) resources are important, and the industries associated with each have coexisted for years. Although Louisiana's oil and gas industry tries to avoid adverse impacts on renewable natural resources, injuries do occur as a result of oil spill incidents. The impact of these incidents on fish, wildlife and the environment can be significant and adversely affect the industries and communities depending on natural resources for commerce and recreation.

Federal and state natural resource trustees have developed the first statewide comprehensive Regional Restoration Planning Program to assist the natural resource trustees in carrying out their responsibilities to restore the natural resources that have been injured by oil spills. The goal of this planning effort was to establish a statewide program that would: expedite and reduce the cost of the NRDA process; increase predictability by describing in detail the NRDA process; and increase restoration of lost natural resources and services by expediting resolution of claims. The statewide Program describes a number of additional case settlement alternatives that will assist the trustees and Responsible Parties in negotiations to resolve Responsible Party liabilities for incidents. These settlement alternatives generally represent different ways of resolving liability from an incident under one or the other (or both) of the two usual options: Responsible Party implemented restoration, or Responsible Party cash settlement and trustee implemented restoration.

The Louisiana Regional Restoration Planning Program divides the state into nine regions. For each region, a Regional Restoration Plan will be developed that identifies: resources which could potentially be injured by incidents; appropriate restoration types to restore those resources; and available restoration projects for each of the restoration types.

The draft RRP-2 covers an area of southwest Louisiana, including all or part of the following parishes: Ascension, Assumption, Jefferson, Lafourche, Orleans, Plaquemines, St. Bernard, St. Charles, St. James, and St. John the Baptist. The predominant habitats in this region are coastal herbaceous wetlands, oyster reefs, and coastal forested wetlands. One of the key features of the draft RRP-2 is the unit restoration costs determined for these habitats. The unit costs, developed to facilitate cash settlements, include all costs to conduct the project planning, engineering and design, land rights, permitting, implementation, monitoring, operations and maintenance, contingencies, and trustee oversight. To keep the costs as accurate as possible, it is anticipated that they will be periodically reviewed and updated as new data become available. Any changes made to the estimates will be made available for public review and comment.

The natural resource trustees (NOAA, DOI, LOSCO, LDEQ, LDNR, LDWF) are designated pursuant to 33 U.S.C. 2706(c), Executive Order 12777, and the National Contingency Plan, 40 CFR 300.600 and 300.605. Pursuant to La. Rev. Stat. 30:2460, the State of Louisiana Oil Spill Contingency Plan (September 1995) describes the state trust resources to include the following: vegetated wetlands, surface waters, ground waters, air, soil, wildlife, aquatic life, and the appropriate habitats on which they depend. DOI has been designated as trustee for the natural resources that it manages or controls. Examples of those resources are described in the National Contingency Plan, 40 CFR 300.600(b)(2) and (3), include the following and their supporting ecosystems: migratory birds, anadromous fish, endangered species and marine mammals, federally owned minerals, certain federally managed water resources, and natural resources located on, over, or under land administered by DOI. NOAA's trust resources include, but are not limited to: commercial and recreational fish species, anadromous and catadromous fish species, marshes and other coastal habitats, marine mammals, and endangered and threatened marine species.

Pursuant to 15 CFR 990.56, the natural resource trustees are authorized to develop regional restoration plans as part of Oil Pollution Act's mandate for the trustees to restore, rehabilitate, replace, or acquire the equivalent of natural resources and services injured by oil spill incidents and to compensate for interim losses of such resources and services.

The Administrative Record for the statewide program and RRP-2 is being maintained at: (1) NOAA Damage Assessment Center, SSMC #4, 1305 East-West Highway, Silver Spring, Maryland 20910-3281; (2) Louisiana Oil Spill Coordinator's Office, Suite 405, 150 Third Street, Baton Rouge, LA, 7081; and (3) http://www.darp.noaa.gov/seregion/larrpar.htm.

The Record includes documents that the trustees relied upon during the development of the Draft Louisiana Regional Restoration Plan: Region 2. Pursuant to 15 CFR 990.23 & 990.56, the trustees sought public involvement in developing the Draft Louisiana Regional Restoration Plan: Region 2, through public review and comment of the documents contained in the Record, as well as through publication of the “Louisiana Regional Restoration Planning Program/Draft Programmatic Environmental Impact Statement”. Further, opportunity for public review will become available when the Louisiana Regional Restoration Planning Program/Final Environmental Impact Statement is prepared.

Dated: September 11, 2003.
Richard W. Spinrad,
Assistant Administrator for Ocean Services and Coastal Zone Management, National Ocean Service.

[FR Doc. 03-23697 Filed 9-16-03; 8:45 am]

BILLING CODE 3510-JE-P